DEPARTMENT OF ENERGY

Federal Energy Regulatory Commission

[Docket No. RP00-501-000]

Mojave Pipeline Company; Notice of Proposed Changes in FERC Gas Tariff

August 24, 2000.

Take notice that on August 18, 2000, Mojave Pipeline Company (Mojave), tendered for filing and acceptance by the Federal Energy Regulatory Commission (Commission) the following tariff sheets to be effective March 26, 2000 and June 1, 2000.

Second Revised Volume No. 1

First Revised Sheet No. 111

First Revised Sheet No. 113

First Revised Sheet No. 114

First Revised Sheet No. 116

First Revised Sheet No. 119

First Revised Sheet No. 241

Mojave states that the tariff sheets are being submitted, pursuant to Order No. 637, to (i) remove the maximum rate cap for capacity release transactions of less than one year, (ii) modify the right-of-first-refusal provisions applicable to long term firm contracts at the maximum rate, and (iii) revise the electronic bulletin board description to refer to Mojave's internet Web site.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-22107 Filed 8-29-00; 8:45 am]

BILLING CODE 6717-01-M